DEPARTMENT OF HEALTH AND HUMAN SERVICES

Centers for Disease Control and Prevention

[60Day-11-0768]

Proposed Agency Information Collection Act

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, Ph.D., CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Outcomes Data Collection of the National Prevention Information Network, (OMB No. 0920-0768 Exp: 3/31/2011)—Extension with change—National Center for HIV/AIDS, Viral Hepatitis, STD, and TB Prevention (NCHHSTP), Centers for Disease Control and Prevention (CDC).

Background and Brief Description

NCHHSTP has the primary responsibility within the CDC and the U.S. Public Health Service for the prevention and control of HIV infection, viral hepatitis, sexually transmitted diseases (STDs), and tuberculosis (TB), as well as for community-based HIV prevention activities, syphilis, and TB elimination programs. NPIN serves as the U.S. reference, referral, and distribution service for information on HIV/AIDS, viral hepatitis, STDs, and TB, supporting NCHHSTP's mission to link Americans to prevention, education, and care services. NPIN is a critical member of the network of government agencies, community organizations, businesses, health professionals, educators, and human services providers that educate the American public about the grave threat to public health posed by HIV/AIDS, viral hepatitis, STDs, and TB. NPIN provides the most comprehensive listing of HIV/AIDS, viral hepatitis, STD, and TB resources and services for prevention partners and the American public throughout the country and makes it available on the NPIN Web site. More than 29 million hits to the Web site are recorded annually.

To accomplish CDC's goal of consistently improving NPIN's Web site, and NPIN's other products and services, and meet the ever-growing needs of the the prevention professionals, prevention partners, and the general public, it is necessary to collect feedback from visitors to the NPIN Web site and the users of NPIN's products and services on an on-going basis. Every effort has been made to minimize the burden on prevention professionals and the general public.

This request is for 3-years. The evaluation will be accomplished by survey data collection from two groups—users of the NPIN Web site and users of NPIN products and services. Respondents for each survey will include representatives from government agencies, community-based organizations, advocacy organizations, various other organizations involved in the prevention and/or treatment of HIV/AIDS, STDs, TB, and/or viral hepatitis, and the general public. The NPIN Web site user survey will be conducted on an ongoing basis via the Web site and a blast e-mail reminder will be sent out annually. The NPIN products and services user survey will be conducted on a bi-annual basis with a blast e-mail sent out every 6 months. When appropriate, NPIN will distribute the surveys at conferences and via social networks. Some of the NPIN Web site user surveys and the NPIN products and services surveys will be conducted over the phone as needed, which will be kept to an absolute minimum.

The information collected from the surveys is not intended to provide statistical data for publication. The purpose of this activity is solely to obtain user feedback that will help identify opportunities to improve the services and products provided to the public by NPIN and to ultimately allow NPIN to fulfill its mission. Approval of this information collection request will allow PIN to acquire accurate, up-to-date information from users of the NPIN Web site, and other products and services on a regular basis and in a timely manner. This data collection will also help the NPIN team to identify the service needs of NPIN users and implement new features to meet those needs. The data collected will help to identify the strengths and weaknesses of the NPIN Web site, and other products and services. This process also ensures collecting data using a consistent format and complies with requirements under the Public Health Service Act, Executive Order 12862, and GPRA. Ultimately, the data collected will enable the NPIN team to provide the highest quality products and services to NPIN users.

Without this information collection, CDC will be hampered in successfully carrying out its mission of providing quality products and services to populations served. Failure to continue with the data collection effort would compromise efforts to meet the legislative requirement of being as responsive as possible to the public who consistently seek information about the prevention and treatment of HIV/AIDS, STDS, TB, and viral hepatitis. Moreover, it would diminish NPIN's value to the public in terms of usability and credibility as a comprehensive Federal information and education resource. There is no cost to respondents other than their time.

Estimated Annualized Burden Hours
Form name | Number of respondents | Number of responses per respondent | Average burden per response (in hours) | Total burden (in hours)
NPIN Web site User Survey | 500 | 1 | 15/60 | 125
Online NPIN Products and Services User Survey | 475 | 2 | 13/60 | 206
NPIN Products and Services, Phone User Survey | 25 | 2 | 13/60 | 11
Total | 1000 | 5 |  | 342

Dated: October 18, 2010.
Carol Walker,
Acting Reports Clearance Officer, Centers for Disease Control and Prevention.

[FR Doc. 2010-26696 Filed 10-21-10; 8:45 am]

BILLING CODE 4163-18-P